DEPARTMENT OF TRANSPORTATION

Federal Railroad Administration

[Docket No. FRA-2025-0010]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) summarized below to the Office of Management and Budget (OMB) for review and comment. The ICR describes the information collection and its expected burden. On March 25, 2025, FRA published a notice providing a 60-day period for public comment on the ICR. FRA received no comments in response to the notice.

DATES: Interested persons are invited to submit comments on or before June 30, 2025.

ADDRESSES: Written comments and recommendations for the proposed ICR should be sent within 30 days of publication of this notice to www.reginfo.gov/public/do/PRAMain. Find the particular ICR by selecting “Currently under Review—Open for Public Comments” or by using the search function.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On March 25, 2025, FRA published a 60-day notice in the Federal Register soliciting public comment on the ICR for which it is now seeking OMB approval. See 90 FR 13656. FRA has received no comments related to the proposed collection of information.

Before OMB decides whether to approve this proposed collection of information, it must provide 30 days' notice for public comment. Federal law requires OMB to approve or disapprove paperwork packages between 30 and 60 days after the 30-day notice is published. 44 U.S.C. 3507(b)-(c); 5 CFR 1320.12(d); See also 60 FR 44978, 44983, Aug. 29, 1995. The 30-day notice informs the regulated community of their opportunity to file relevant comments and affords the agency adequate time to consider public comments before it renders a decision. 60 FR 44983, Aug. 29, 1995. Therefore, respondents should submit their respective comments to OMB within 30 days of publication to best ensure having their full effect.

Comments are invited on the following ICR regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Railroad Workplace Safety.

OMB Control Number: 2130-0539.

Abstract: FRA collects a variety of information associated with 49 CFR part 214, Railroad Workplace Safety. To ensure compliance with part 214, FRA collects data on affected railroads' on-track safety programs to determine that railroads have policies, procedures, and practices in place that protect roadway workers from dangers in their work environment. Railroads are required to provide all roadway workers with on-track safety manuals that they can readily consult to determine what on-track safety procedures are required for their work assignment. Under the regulation, railroads are required to provide initial and recurrent training to roadway workers on their on-track safety program. This includes training for roadway workers who work where on-track safety for adjacent controlled tracks is required, and the appropriate practices and procedures they must follow.

FRA collects data from railroads on training through the records that they are required to keep. Additionally, FRA collects information on violations of workplace safety regulations on Form FRA F 6180.119. FRA uses violation information to support actions that will reduce or eliminate hazards to railroad workers. Specifically, FRA uses the information that it collects, under this regulation, to monitor and enforce requirements relating to the safety of roadway workers and ensure that railroads fulfill their responsibilities to keep roadway workers secure and free from unnecessary and avoidable hazards.

Type of Request: Extension without change (with changes in estimates) of a currently approved collection.

Affected Public: Businesses, Roadway Workers, State Safety Inspectors.

Form(s): FRA F 6180.119.

Respondent Universe: 800 Railroads, 200 Contractors, 43,000 Roadway Workers, and 350 Inspectors.

Frequency of Submission: On occasion.

Total Estimated Annual Responses: 290,698.

Total Estimated Annual Burden: 13,604 hours.

Total Estimated Annual Dollar Cost Equivalent: 966,583.

FRA informs all interested parties that it may not conduct or sponsor, and a respondent is not required to respond to, a collection of information that does not display a currently valid OMB control number.

Authority: 44 U.S.C. 3501-3520.

Christopher S. Van Nostrand,
Deputy Chief Counsel.

[FR Doc. 2025-09647 Filed 5-28-25; 8:45 am]

BILLING CODE 4910-06-P